ENVIRONMENTAL PROTECTION AGENCY

[EPA-HQ-OPP-2016-0141; FRL-9186-01-OCSPP]

Dicloran (DCNA); Amendments To Terminate Uses for Certain Pesticide Registrations

AGENCY: Environmental Protection Agency (EPA).

ACTION: Notice.

SUMMARY: This notice announces EPA's final order for the amendments to terminate uses on geraniums and hydrangeas, voluntarily requested by the registrant, and accepted by the Agency, of products containing dicloran (DCNA), pursuant to section 6(f)(1) of the Federal Insecticide, Fungicide, and Rodenticide Act (FIFRA), as amended. This cancellation order follows a May 5, 2021 Federal Register Notice of Receipt of Requests from the registrant listed in Table 2 of Unit II. to voluntarily cancel product use on geraniums and hydrangeas for these product registrations. These are not the only products containing this pesticide registered for use in the United States. In the May 5, 2021 notice, EPA indicated that it would issue an order implementing the amendment to terminate use, unless the Agency received substantive comments within the 30-day comment period that would merit its further review of these requests, or unless the registrant withdrew their request. The Agency did not receive any comments on the notice. Further, the registrant did not withdraw their request. Accordingly, EPA hereby issues in this notice a cancellation order granting the requested amendment to terminate DCNA use on geranium and hydrangeas. Any distribution, sale, or use of the products subject to this cancellation order is permitted only in accordance with the terms of this order, including any existing stocks provisions.

DATES: The amendment is effective October 29, 2021.

FOR FURTHER INFORMATION CONTACT: Melanie Biscoe, Pesticide Re-Evaluation Division (7508P), Office of Pesticide Programs, Environmental Protection Agency, 1200 Pennsylvania Ave. NW, Washington, DC 20460-0001; email address: biscoe.melanie@epa.gov, telephone number: 703-305-7106.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2016-0141, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the agency taking?

This notice announces the amendment to delete from the registration of DCNA use on geraniums and hydrangeas, as requested by registrant, under section 3 of FIFRA. These registrations are listed in sequence by registration number in Table 1 of this unit.

Table 1—DCNA Product Registration Amendments To Delete Uses
EPA registration No. | Product name | Uses deleted
10163-189 | Botran 75-W Fungicide | Geraniums and hydrangeas.
10163-195 | Botran Technical
10163-226 | Botran 5F Fungicide
10163-329 | Botran P 5F Fungicide

Table 2 of this unit includes the name and address of record for the registrant of the products in Table 1 of this unit. This number corresponds to the first part of the EPA registration numbers of the products listed above.

Table 2—Registrant of Amended Products
EPA company No. | Company name and address
10163 | Gowan Company, P.O. Box 5569, Yuma, AZ 85366-5569.

III. Summary of Public Comments Received and Agency Response to Comments

During the public comment period provided, EPA received no comments in response to the May 5, 2021 Federal Register notice (86 FR 85) (FRL-10023-39) announcing the Agency's receipt of the request to voluntary amend to delete DCNA use on geraniums and hydrangeas for products listed in Table 1 of Unit II.

IV. Cancellation Order

Pursuant to FIFRA section 6(f), EPA hereby approves the requested amendment to terminate use of DCNA on geraniums and hydrangeas for registrations identified in Table 1 of Unit II. Accordingly, the Agency hereby orders that the product registrations identified in Table 1 of Unit II. are amended to terminate use on geraniums and hydrangeas. The effective date of the cancellations that are subject of this notice is October 29, 2021. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on May 5, 2021. The comment period closed on June 4, 2021.

VI. Provisions for Disposition of Existing Stocks

For the products 10163-189, 10163-226, and 10163-329, once EPA has approved the product label reflecting the requested amendments to delete specific uses, the registrants will be permitted to sell or distribute the product under the previously approved labeling for a period of 18 months after the date of Federal Register publication of the cancellation order, unless other restrictions have been imposed. Thereafter, the registrant will be prohibited from selling or distributing the product whose label includes the deleted uses identified in Table 2 of Unit II., except for export consistent with FIFRA section 17 or for proper disposal.

Authority: 7 U.S.C. 136 et seq.

Dated: October 22, 2021.
Mary Reaves,
Director, Pesticide Re-Evaluation Division, Office of Pesticide Programs.

[FR Doc. 2021-23589 Filed 10-28-21; 8:45 am]

BILLING CODE 6560-50-P